DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 75 FR 7489-7490, dated February 19, 2010) is amended to reflect the reorganization of the Office of Compensation Analysis and Support, Office of the Director, National Institute for Occupational Safety and Health, Centers for Disease Control and Prevention.

Section C-B, Organization and Functions, is hereby amended as follows:

Delete in its entirety the title and mission statement for the Office of Compensation Analysis and Support (CCA2) and insert the following:

Division of Compensation Analysis and Support (CCN). (1) Conducts a program in support of Federal rulemaking to promulgate science-based methods and guidelines mandated by the Energy Employees Occupational Illness Compensation Program Act of 2000 (known as the “Act”) to estimate the occupational radiation doses of claimants under the Act and evaluate the relationship between such doses and cancers incurred by the claimants; (2) develops and implements a program of science-based analysis and policymaking by which the Secretary of Health and Human Services shall consider and issue determinations on petitions by classes of employees to be included as members of the Special Exposure Cohort established under the Act; and (3) conducts a program of individual dose reconstruction to estimate and report the radiation doses of claimants under the Act.

Dated: February 23, 2010.
William P. Nichols,
Chief Operating Officer, Centers for Disease Control and Prevention.

[FR Doc. 2010-4543 Filed 3-4-10; 8:45 am]

BILLING CODE 4163-18-M